DEPARTMENT OF ENERGY

Federal Energy Regulatory Commission

[Project No. 14239-000]

Mona North Pumped Storage Project; Notice of Preliminary Permit Application Accepted for Filing and Soliciting Comments, Motions To Intervene, and Competing Applications

On August 1, 2011, Mona North Pumped Storage Project, LLC, California, filed an application for a preliminary permit, pursuant to section 4(f) of the Federal Power Act (FPA), proposing to study the feasibility of the Mona North Pumped Storage Project (Mona North Pumped Storage Project or Project) to be located on Old Canyon Stream, near the town of Mona, Juab County, Utah. The project affects federal lands administered by the Bureau of Land Management. The sole purpose of a preliminary permit, if issued, is to grant the permit holder priority to file a license application during the permit term. A preliminary permit does not authorize the permit holder to perform any land-disturbing activities or otherwise enter upon lands or waters owned by others without the owners' express permission.

The proposed project would consist of the following: (1) An underground powerhouse containing the pump-turbines and motor-generators; (2) a waterway between 7,600 and 15,800 feet long (depending on alternative configuration), including inlet/outlet structures at each reservoir, headrace tunnel, pressure shaft, buried penstock, and tailrace features connecting the upper reservoir, the underground powerhouse, and the lower reservoir; and (3) a transmission line connecting the underground powerhouse to the existing Mona substation.

The applicant is studying the following reservoir alternatives:

Alternative 1: (1) A single 340-foot-high by 1,800-foot-long, concrete-faced dam across Old Canyon (upper reservoir) having a total storage capacity of 18,000 acre-feet and a water surface area of 203 acres at full pool elevation of 5,874 feet above mean sea level (msl); (2) an approximately 7,600-foot-long water way connecting the upper reservoir to a lower reservoir located about 2,300 feet south of the existing Mona substation; (3) a 100-foot-high and 13,000-foot-long earthfill ring dike (lower reservoir) located just south of Mona, with a water surface area of 262 acres at full pool elevation of 5,222 feet msl.

Alternative 2: (1) A two dam construction (upper reservoir) located upstream of Right Fork and Old Canyon having a storage capacity of about 8,350 acre-feet and a water surface area of 152 acres at full pond elevation of 6,527 feet msl, one dam would be 285 feet high and 1,900 feet long, and the other dam would be 35 feet high and 800 feet long; (2) an approximately 15,800-foot-long waterway connecting the upper reservoir to a lower reservoir about 2,000 feet north of the existing Mona substation; and (3) a 60-foot-high and 13,000-foot-long, earthfill ring dike (lower reservoir) located north of the existing Mona substation, with a water surface area of 265 acres at full pool elevation of 5,153 feet msl.

Alternative 3: (1) A two dam construction (upper reservoir) located upstream of Right Fork and Old Canyon having a storage capacity of about 24,100 acre-ft and a water surface area of 238 acres at full pond elevation of 6,580 feet msl, one dam would be 400 feet high by 2,900 feet long and the other dam would be a 100 feet high by 3,600 feet long; (2) an approximately 7,700-foot-long waterway connecting the upper reservoir to a lower reservoir north of the existing Mona substation; and (3) 250-foot-high and 1,200-foot-long, earthfill ring dike (lower reservoir) located north of the existing Mona substation, with a water surface area of 182 acres at full pool elevation of about 5,996 feet msl.

The different configurations would depend on the best suited conditions, ranging from a 4 unit, 500 megawatts (MW) (4 units × 125 MW unit) configuration to a 4 unit, 1,000 MW (4 units × 250 MW unit) configuration allowing for 8 to 10 hours of continuous output. Interconnection would exist at the PacifiCorp/Rocky Mountain Power Mona Substation: Alternative 1 would require roughly 6,000 feet; Alternative 2 would require 10,000 feet; and Alternative 3 would require 14,000 feet of new transmission line. Interconnection voltage may be 230 or 500 kilovolts; and annual generation would be within 1,800 to 4,500 gigawatthours, depending on constructed option.

Applicant Contact: Mr. Nathan Sandvig, Mona North Pumped Storage Project, LLC c/o enXco Development Corporation, 517 SW., 4th Avenue, Suite 300, Portland, OR 97204; phone (503) 219-3166.

FERC Contact: Brian Csernak; phone: (202) 502-6144.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14239-000) in the docket number field to access the document. For assistance, contact FERC Online Support.

Dated: September 23, 2011.
Kimberly D. Bose,
Secretary.

[FR Doc. 2011-25056 Filed 9-28-11; 8:45 am]

BILLING CODE 6717-01-P